ENVIRONMENTAL PROTECTION AGENCY

[FRL-7592-7]

Availability of FY 02 Section 105 Grant Performance Reports for the Air Pollution Control Agencies of the States of Georgia, North Carolina, Tennessee and the Commonwealth of Kentucky, as Well as the Local Areas of Louisville, Kentucky and Forsyth County, NC

AGENCY: Environmental Protection Agency (EPA).

ACTION: Notice of availability of grantee performance evaluation reports.

SUMMARY: EPA's grant regulations (40 CFR 35.150) require the Agency to evaluate the performance of agencies which receive grants. EPA's regulations for regional consistency (40 CFR 56.7) require that the Agency notify the public of the availability of the reports of such evaluations. EPA performed FY 02 end-of-year evaluations of four state air pollution control programs (Georgia Department of Natural Resources; North Carolina Department of Environment and Natural Resources; Tennessee Department of Environment and Conservation; and Kentucky Department of Environmental Protection); and two local air pollution control programs (Louisville Metro Air Pollution Control District, KY; and Forsyth County Environmental Affairs Department, NC). The six evaluations were conducted to assess the agencies' performance under the grants awarded by EPA under authority of section 105 of the Clean Air Act. EPA Region 4 has prepared reports for each agency identified above and these reports are now available for public inspection.

ADDRESSES: The reports may be examined at the EPA's Region 4 office, 61 Forsyth Street, SW., Atlanta, Georgia 30303, in the Air, Pesticides, and Toxics Management Division.

FOR FURTHER INFORMATION CONTACT: Marie Persinger (404) 562-9048, for information concerning the State of Kentucky and Louisville, Kentucky; Mary Fox (404) 562-9053, for the States of Georgia and North Carolina and Forsyth County, North Carolina; and Rayna Brown (404) 562-9093, for information concerning the State of Tennessee. They may be contacted at the above Region 4 address.

Dated: November 18, 2003.
A. Stanley Meiburg,
Deputy Regional Administrator, Region 4.

[FR Doc. 03-29841 Filed 11-28-03; 8:45 am]

BILLING CODE 6560-50-P